DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on January 15, 2025. See SUPPLEMENTARY INFORMATION section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Actions

On January 15, 2025, OFAC determined that the property and interests in property subject to U.S. jurisdiction of the following persons are blocked under the relevant sanctions authorities listed below.

Individual

1. PRIKHODKO, Andrei Valeryevich (a.k.a. PRIKHODKO, Andrey Valeryevich), Moscow, Russia; DOB 26 Aug 1977; POB Moscow, Russia; nationality Russia; Gender Male; Secondary sanctions risk: See Section 11 of Executive Order 14024.; alt. Secondary sanctions risk: Ukraine-/Russia-Related Sanctions Regulations, 31 CFR 589.201 and/or 589.209; National ID No. 772335626982 (Russia) (individual) [UKRAINE-EO13662] [RUSSIA-EO14024].

Designated pursuant to section 1(a)(i) of Executive Order 13662 of March 20, 2014, “Blocking Property of Additional Persons Contributing to the Situation in Ukraine,” 79 FR 16169, 3 CFR, 2014 Comp., p. 233 (E.O. 13662) for operating in the financial services sector of the Russian Federation economy.

Also designated pursuant to section 1(a)(i) of Executive Order 14024 of April 15, 2021, “Blocking Property With Respect To Specified Harmful Foreign Activities of the Government of the Russian Federation,” 86 FR 20249, 3 CFR, 2021 Comp., p. 542 (Apr. 15, 2021) (E.O. 14024) as amended by Executive Order 14114 of December 22, 2023, “Taking Additional Steps With Respect to the Russian Federation's Harmful Activities,” 88 FR 89271, 3 CFR, 2023 Comp., p. 721 (Dec. 22, 2023) (E.O. 14114) for operating or having operated in the financial services sector of the Russian Federation economy.

Entities

1. AKTSIONERNOE OBSHCHESTVO ATLANT TORG, Ul. 1-Ya Tekstilshchikov D. 12/9, Pomeshch. 5P, Moscow 109390, Russia; Secondary sanctions risk: See Section 11 of Executive Order 14024.; alt. Secondary sanctions risk: Ukraine-/Russia-Related Sanctions Regulations, 31 CFR 589.201 and/or 589.209; Organization Established Date 31 Jan 2024; Tax ID No. 9723222604 (Russia); Registration Number 1247700093211 (Russia) [UKRAINE-EO13662] [RUSSIA-EO14024].

Designated pursuant to section 1(a)(i) of E.O. 13662 for operating in the financial services sector of the Russian Federation economy.

Also designated pursuant to section 1(a)(i) of E.O. 14024 for operating or having operated in the financial services sector of the Russian Federation economy.

2. AKTSIONERNOE OBSHCHESTVO TRANZAKTSII I RASCHETY, Proezd Lugovoi D. 9, K. 1, Pomeshch. 2/1, Moscow 109652, Russia; Secondary sanctions risk: See Section 11 of Executive Order 14024.; alt. Secondary sanctions risk: Ukraine-/Russia-Related Sanctions Regulations, 31 CFR 589.201 and/or 589.209; Organization Established Date 31 May 2024; Tax ID No. 9723231824 (Russia); Registration Number 1247700404907 (Russia) [UKRAINE-EO13662] [RUSSIA-EO14024].

Designated pursuant to section 1(a)(i) of E.O. 13662 for operating in the financial services sector of the Russian Federation economy.

Also designated pursuant to section 1(a)(i) of E.O. 14024 for operating or having operated in the financial services sector of the Russian Federation economy.

3. ANHUI HONGSHENG INTERNATIONAL TRADE CO LTD (a.k.a. ANHUI HONGSHENG INTERNATIONAL BUSINESS CO LTD), 200 Huaining Road, Heyedi, Shushan District, Hefei, Anhui 230000, China; Secondary sanctions risk: See Section 11 of Executive Order 14024.; alt. Secondary sanctions risk: Ukraine-/Russia-Related Sanctions Regulations, 31 CFR 589.201 and/or 589.209; Organization Established Date 27 Aug 2024; Unified Social Credit Code (USCC) 91340000MADXTPQR3H (China) [UKRAINE-EO13662] [RUSSIA-EO14024].

Designated pursuant to section 1(a)(i) of E.O. 13662 for operating in the financial services sector of the Russian Federation economy.

Also designated pursuant to section 1(a)(i) of E.O. 14024 for operating or having operated in the financial services sector of the Russian Federation economy.

4. FUJIAN XINFUWANG INTERNATIONAL TRADE CO LTD (a.k.a. FUJIAN XINFUWANG INTERNATIONAL TRADING COMPANY LTD), Unit 2601, Hengli City, 128 Wusi Road, Gulou District, Fuzhou, Fujian 350000, China; Secondary sanctions risk: See Section 11 of Executive Order 14024.; alt. Secondary sanctions risk: Ukraine-/Russia-Related Sanctions Regulations, 31 CFR 589.201 and/or 589.209; Organization Established Date 11 Oct 2024; Unified Social Credit Code (USCC) 91350000MAE1HJFW50 (China) [UKRAINE-EO13662] [RUSSIA-EO14024].

Designated pursuant to section 1(a)(i) of E.O. 13662 for operating in the financial services sector of the Russian Federation economy.

Also designated pursuant to section 1(a)(i) of E.O. 14024 for operating or having operated in the financial services sector of the Russian Federation economy.

5. HANGZHOU XIANGHE TRADING CO LTD, Office 143, Floor 1, Building 1, 63 Jiuhuan Road, Shangcheng District, Hangzhou, Zhejiang Province, China; Secondary sanctions risk: See Section 11 of Executive Order 14024.; alt. Secondary sanctions risk: Ukraine-/Russia-Related Sanctions Regulations, 31 CFR 589.201 and/or 589.209; Unified Social Credit Code (USCC) 91330102MAE1C08D6W (China) [UKRAINE-EO13662] [RUSSIA-EO14024].

Designated pursuant to section 1(a)(i) of E.O. 13662 for operating in the financial services sector of the Russian Federation economy.

Also designated pursuant to section 1(a)(i) of E.O. 14024 for operating or having operated in the financial services sector of the Russian Federation economy.

6. HEILONGJIANG SHUNSHENG ECONOMIC AND TRADE DEVELOPMENT CO LTD, Room 301, Building S21, No. 5566 Maple Leaf Blue Peninsula, Zhigu Third Street, Songbei District, Harbin, Heilongjiang 150000, China; Secondary sanctions risk: See Section 11 of Executive Order 14024.; alt. Secondary sanctions risk: Ukraine-/Russia-Related Sanctions Regulations, 31 CFR 589.201 and/or 589.209; Organization Established Date 09 Sep 2024; Unified Social Credit Code (USCC) 91230109MADXG1GK67 (China) [UKRAINE-EO13662] [RUSSIA-EO14024].

Designated pursuant to section 1(a)(i) of E.O. 13662 for operating in the financial services sector of the Russian Federation economy.

Also designated pursuant to section 1(a)(i) of E.O. 14024 for operating or having operated in the financial services sector of the Russian Federation economy.

7. HERBARIUM OFFICE MANAGEMENT LLC (a.k.a. GERBARIUM OFFICE MANAGEMENT LLC), Ul. Novyi Arbat D. 29, Kabinet 324, Moscow 121099, Russia; Secondary sanctions risk: See Section 11 of Executive Order 14024.; alt. Secondary sanctions risk: Ukraine-/Russia-Related Sanctions Regulations, 31 CFR 589.201 and/or 589.209; Tax ID No. 7704877746 (Russia); Registration Number 5147746250890 (Russia) [UKRAINE-EO13662] [RUSSIA-EO14024].

Designated pursuant to section 1(a)(i) of E.O. 13662 for operating in the financial services sector of the Russian Federation economy.

Also designated pursuant to section 1(a)(i) of E.O. 14024 for operating or having operated in the financial services sector of the Russian Federation economy.

8. JILIN PROVINCE SHUNDA TRADING COMPANY LTD, Office 1901, China Trade International Unit 1, Renmin Street No. 146, Nanguan District, Changchun City, China; Secondary sanctions risk: See Section 11 of Executive Order 14024.; alt. Secondary sanctions risk: Ukraine-/Russia-Related Sanctions Regulations, 31 CFR 589.201 and/or 589.209; Unified Social Credit Code (USCC) 91220000MAE2BG024F (China) [UKRAINE-EO13662] [RUSSIA-EO14024].

Designated pursuant to section 1(a)(i) of E.O. 13662 for operating in the financial services sector of the Russian Federation economy.

Also designated pursuant to section 1(a)(i) of E.O. 14024 for operating or having operated in the financial services sector of the Russian Federation economy.

9. JOINT STOCK COMPANY ARCTUR (a.k.a. JSC ARKTUR), Ul Chaginskaya D. 4, Str. 13, Pomeshch. 6/2, Moscow 109380, Russia; Secondary sanctions risk: See Section 11 of Executive Order 14024.; alt. Secondary sanctions risk: Ukraine-/Russia-Related Sanctions Regulations, 31 CFR 589.201 and/or 589.209; Organization Established Date 24 Aug 2022; Tax ID No. 9725093383 (Russia); Registration Number 1227700519804 (Russia) [UKRAINE-EO13662] [RUSSIA-EO14024].

Designated pursuant to section 1(a)(i) of E.O. 13662 for operating in the financial services sector of the Russian Federation economy.

Also designated pursuant to section 1(a)(i) of E.O. 14024 for operating or having operated in the financial services sector of the Russian Federation economy.

10. LIMITED LIABILITY COMPANY SIGMA PARTNERS, Ul. Lenina D. 10, Office 201A, Kostroma 156000, Russia; Secondary sanctions risk: See Section 11 of Executive Order 14024.; alt. Secondary sanctions risk: Ukraine-/Russia-Related Sanctions Regulations, 31 CFR 589.201 and/or 589.209; Organization Established Date 05 Jul 2023; Tax ID No. 4400015270 (Russia); Registration Number 1234400003463 (Russia) [UKRAINE-EO13662] [RUSSIA-EO14024].

Designated pursuant to section 1(a)(i) of E.O. 13662 for operating in the financial services sector of the Russian Federation economy.

Also designated pursuant to section 1(a)(i) of E.O. 14024 for operating or having operated in the financial services sector of the Russian Federation economy.

11. PAYLINK LIMITED, Ul. 2-Ya Entuziastov D. 5, K. 40, Pomeshch. 3/2, Vn. Ter. G. Munitsipalnyy Okrug Perovo, Moscow 111024, Russia; Secondary sanctions risk: See Section 11 of Executive Order 14024.; alt. Secondary sanctions risk: Ukraine-/Russia-Related Sanctions Regulations, 31 CFR 589.201 and/or 589.209; Organization Established Date 10 Oct 2024; Tax ID No. 7720938259 (Russia); Registration Number 1247700672427 (Russia) [UKRAINE-EO13662] [RUSSIA-EO14024].

Designated pursuant to section 1(a)(i) of E.O. 13662 for operating in the financial services sector of the Russian Federation economy.

Also designated pursuant to section 1(a)(i) of E.O. 14024 for operating or having operated in the financial services sector of the Russian Federation economy.

12. QINGDAO HEZHI BUSINESS SERVICE CO LTD, Room 303, Unit 1, Building 1, No.112 Ningxia Road, Shinan District, Qingdao, Shandong, China; Secondary sanctions risk: See Section 11 of Executive Order 14024.; alt. Secondary sanctions risk: Ukraine-/Russia-Related Sanctions Regulations, 31 CFR 589.201 and/or 589.209; Organization Established Date 21 Aug 2024; Unified Social Credit Code (USCC) 91370200MADY0FLQ9J (China) [UKRAINE-EO13662] [RUSSIA-EO14024].

Designated pursuant to section 1(a)(i) of E.O. 13662 for operating in the financial services sector of the Russian Federation economy.

Also designated pursuant to section 1(a)(i) of E.O. 14024 for operating or having operated in the financial services sector of the Russian Federation economy.

13. QINGYUAN FO FENG LEDA SUPPLY CHAIN SERVICE CO LTD, Room 701, Lixin Shengfeikangcheng Commercial Office Building, 59 Zhenxing South Road, Shijiao Town, Fogang County, Guangdong Province, China; Secondary sanctions risk: See Section 11 of Executive Order 14024.; alt. Secondary sanctions risk: Ukraine-/Russia-Related Sanctions Regulations, 31 CFR 589.201 and/or 589.209; Unified Social Credit Code (USCC) 91441821MADYPAQ94B (China) [UKRAINE-EO13662] [RUSSIA-EO14024].

Designated pursuant to section 1(a)(i) of E.O. 13662 for operating in the financial services sector of the Russian Federation economy.

Also designated pursuant to section 1(a)(i) of E.O. 14024 for operating or having operated in the financial services sector of the Russian Federation economy.

14. SHAANXI HONGRUN JINHUA TRADING CO LTD (a.k.a. SHAANXI HONGRUN JINHUA TRADE AND COMMERCE COMPANY LTD), Room 1511, Unit 2, Building 28, Shouchuang Fubei Gaoyin, Fengcheng 12th Road, Economic and Technological Development Zone, Xi'an, Shaanxi 710000, China; Secondary sanctions risk: See Section 11 of Executive Order 14024.; alt. Secondary sanctions risk: Ukraine-/Russia-Related Sanctions Regulations, 31 CFR 589.201 and/or 589.209; Organization Established Date 11 Oct 2024; Unified Social Credit Code (USCC) 91610132MAE0TWT96D (China) [UKRAINE-EO13662] [RUSSIA-EO14024].

Designated pursuant to section 1(a)(i) of E.O. 13662 for operating in the financial services sector of the Russian Federation economy.

Also designated pursuant to section 1(a)(i) of E.O. 14024 for operating or having operated in the financial services sector of the Russian Federation economy.

15. XINJIANG FINANCIAL IMPORT AND EXPORT CO LTD, Office 720, 7th Floor, Yizhan Tiandi Building A, 336 Rongsheng Fifth Street, Economic and Technological Development Zone, Urumqi, Xinjiang, China; Secondary sanctions risk: See Section 11 of Executive Order 14024.; alt. Secondary sanctions risk: Ukraine-/Russia-Related Sanctions Regulations, 31 CFR 589.201 and/or 589.209; Unified Social Credit Code (USCC) 91650106MADXMUBG3Q (China) [UKRAINE-EO13662] [RUSSIA-EO14024].

Designated pursuant to section 1(a)(i) of E.O. 13662 for operating in the financial services sector of the Russian Federation economy.

Also designated pursuant to section 1(a)(i) of E.O. 14024 for operating or having operated in the financial services sector of the Russian Federation economy.

Lisa M. Palluconi,
Acting Director, Office of Foreign Assets Control.

[FR Doc. 2025-01426 Filed 1-21-25; 8:45 am]

BILLING CODE 4810-AL-P